NATIONAL AERONAUTICS AND SPACE ADMINISTRATION

48 CFR Part 1845

RIN 2700-AC33

Government Property—Instructions for Preparing NASA Form 1018

AGENCY: National Aeronautics and Space Administration.

ACTION: Interim rule.

SUMMARY: This interim rule amends the NASA Federal Acquisition Regulation Supplement (NFS) to provide policies and procedures for proper reporting of heritage assets as part of contractor annual reports of NASA property in its custody, and to clarify other property classifications. NASA uses the data contained in contractor reports for annual financial statements and property management. This change will provide for consistent reporting of NASA property by contractors.

DATES: Effective Date: This interim rule is effective November 12, 2002.

Comment Date: Comments should be submitted to NASA at the address below on or before January 13, 2003.

FOR FURTHER INFORMATION CONTACT: Lou Becker, NASA Headquarters, Office of Procurement, Contract Management Division (Code HK), Washington, DC 20546, telephone: (202) 358-4593, e-mail to: lbecker@hq.nasa.gov.

SUPPLEMENTARY INFORMATION:

A. Background

NASA must account for and report assets in accordance with 31 U.S.C. 3515, Federal Accounting Standards, and Office of Management and Budget (OMB) Bulletin No. 01-09, Form and Content of Agency Financial Statements. Since contractors maintain NASA's official records for NASA-owned assets in contractors' possession, NASA must obtain annual data from those records in order to facilitate proper accounting and control over the assets. This interim rule provide policies and procedures for proper reporting of heritage assets by providing a definition and directing that these assets be reported within appropriate property classifications. This interim rule also clarifies other property classifications and provides cross references to the FAR to insure proper reporting of these assets.

B. Regulatory Flexibility Act

NASA certifies that this interim rule will not have a significant economic impact on a substantial number of small businesses within the meaning of the Regulatory Flexibility Act (5 U.S.C. 601 et seq.) because it clarifies existing property reporting policies and procedures contractors must follow when accounting for and reporting assets.

C. Paperwork Reduction Act

The Paperwork Reduction Act does not apply because the changes to the NFS do not impose new recordkeeping or information collection requirements which require the approval of the Office of Management and Budget under 44 U.S.C. 3501, et seq.

D. Determination To Issue an Interim Rule

In accordance with 41 U.S.C. 418(d), NASA has determined that urgent and compelling reasons exist to promulgate this interim rule. The basis for this determination is that the clarifications contained in this interim rule are needed to ensure consistent reporting of NASA assets in contractor annual reports to be submitted by October 31, 2002. Public comments received in response to this interim rule will be considered in the formation of the final rule.

List of Subjects in 48 CFR Part 1845

Government procurement.

Tom Luedtke,
Assistant Administrator for Procurement.

Accordingly, 48 CFR part 1845 is amended to as follows:

1. The authority citation for 48 CFR part 1845 continues to read as follows:

Authority: 42 U.S.C. 247(c)(1).

PART 1845—GOVERNMENT PROPERTY

2. Amend section 1845.7101-1 by—

a. Revising paragraph (a);

b. Revising the introductory text of paragraph (g);

c. Adding “(see FAR 45.101)” at the end of the first sentence in paragraph (h) introductory text;

d. Adding “(see FAR 45.101)” at the end of the first sentence in the introductory text of paragraph (i);

e. In paragraph (j), adding “regardless of whether or not it is unique to NASA programs,” immediately after “inventory” in the first sentence, and adding “spares,” immediately after “material” in the second sentence;

f. Revising the first sentence in the introductory text of paragraph (k). The revised text reads as follows:

1845.7101-1 Property classification.

(a) General. (1) Contractors shall report costs in the classifications on NF 1018, as described in this section. The cost of heritage assets will be reported on the NF 1018 under the appropriate classification. Supplemental reporting may also be required. Heritage assets are property, plant and equipment that possess one or more of the following characteristics:

(i) Historical or natural significance;

(ii) Cultural, educational or aesthetic value; or

(iii) Significant architectural characteristics.

(2) Examples of NASA heritage assets include buildings and structures designated as National Historic Landmarks as well as aircraft, spacecraft and related components on display to enhance public understanding of NASA programs. Heritage assets which serve both a heritage and government operation function are considered multi-use when the predominant use is in general government operations. Multi-use heritage assets will not be considered heritage assets for NF 1018 supplemental reporting purposes.

* * * * *

(g) Equipment. Includes costs of commercially available personal property capable of stand-alone use in manufacturing supplies, performing services, or any general or administrative purpose (for example, machine tools, furniture, vehicles, computers, software, test equipment, including their accessory or auxiliary items). Software integrated into and necessary to operate another item of Government property is considered to be an auxiliary item (see FAR 45.501) and should be considered part of the item of which it is an integral part. Other software shall be classified as an individual item of equipment for reporting purposes if $100,000 or over. Software licenses are excluded. Contractors shall separately report: * * *

* * * * *

(k) Agency-Peculiar Property. Includes costs of completed items, unique to NASA aeronautical and space programs which are capable of stand alone operation. * * *

* * * * *

3. Amend section 1845.7101-2 by deleting the last two sentences in paragraph (a) and adding the following sentence at the end of paragraph (a) to read as follows:

1845.7101-2 Transfers of property.

* * * * *

(a) * * * Shipping and receiving contractors shall promptly submit copies of shipping and receiving documents to the Center Deputy Chief Financial Officer, Finance, responsible for their respective contracts when accountability for NASA property is transferred to, or received from, other contracts, contractors, NASA Centers, or Government agencies.

* * * * *

1845.7101-3 [Amended]

4. Amend section 1845.7101-3, in the first sentence of paragraph (b) by removing “Special Test Equipment, Special Tooling, Agency Peculiar Property and Contract Work in Process” and adding “property” in its place.

1845.7101-4 [Amended]

5. Amend section 1845.7101-4, in paragraph (g) by adding “, or trade-ins” at the end of the sentence.

[FR Doc. 02-28084 Filed 11-8-02; 8:45 am]

BILLING CODE 7510-13-P